INTERNATIONAL TRADE COMMISSION

[Inv. No. 337-TA-572]

In the Matter of Certain Insulin Delivery Devices Including Cartridges Having Adaptor Tops and Components Thereof; Notice of a Commission Determination Not To Review an Initial Determination Terminating the Investigation in Its Entirety Based Upon Withdrawal of the Complaint

AGENCY: U.S. International Trade Commission.

ACTION: Notice.

SUMMARY: Notice is hereby given that the U.S. International Trade Commission has determined not to review an initial determination (“ID”) of the presiding administrative law judge (“ALJ”) in the above-captioned investigation terminating the above-captioned investigation as to all respondents based on withdrawal of the complaint.

FOR FURTHER INFORMATION CONTACT: Michael K. Haldenstein, Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 9, 2006, based on a complaint filed by Novo Nordisk A/S of Denmark, Novo Nordisk Inc., of New Jersey and Novo Nordisk Pharmaceuticals Industries, Inc. of North Carolina. 71 FR 33484 (June 9, 2006). The complaint, as supplemented, alleged violations of section 337 in the importation into the United States, the sale for importation, and the sale within the United States after importation of certain insulin delivery devices, including cartridges having adaptor tops, and components thereof, by reason of infringement of claims 1-3, 5-7, 11, 18, and 19 of U.S. Patent 5,693,027. The complaint further alleged that an industry in the United States exists or is in the process of being established as required by subsection (a)(2) of section 337. The complainants requested that the Commission issue a limited exclusion order and cease and desist order. The Commission named three companies as respondents: Sanofi-Aventis Deutschland GmbH of Germany, Sanofi-Aventis of France, and Aventis Pharmaceuticals, Inc. of New Jersey. The ALJ set August 23, 2007 as the target date for completion of the investigation.

On October 5, 2006, complainants filed a motion to withdraw the complaint and terminate the investigation as to all parties. The three respondents filed a response to the motion on October 13, 2006, arguing that while they did not oppose termination of the investigation, sanctions and termination with prejudice were appropriate. The Commission investigative attorney supported the motion for termination of the investigation and opposed imposition of sanctions and termination of the investigation with prejudice.

On January 29, 2007, the ALJ issued the subject ID (Order No. 6) granting complainants' motion to terminate the investigation without prejudice based upon withdrawal of the complaint. No petitions for review of the ID were filed. The Commission has determined not to review this ID.

This action is taken under the authority of section 337 of the Tariff Act of 1930, as amended, 19 U.S.C. 1337, and Commission rules 210.21 and 210.42, 19 CFR 210.21 and 210.42.

By order of the Commission.
Issued: February 21, 2007.
Marilyn R. Abbott,
Secretary to the Commission.

[FR Doc. E7-3393 Filed 2-26-07; 8:45 am]

BILLING CODE 7020-02-P